DEPARTMENT OF VETERANS AFFAIRS

Joint Biomedical Laboratory Research and Development and Clinical Science Research and Development Services Scientific Merit Review Board; Notice of Meetings

The Department of Veterans Affairs gives notice under Public Law 92-463 (Federal Advisory Committee Act) that the subcommittees of the Joint Biomedical Laboratory Research and Development and Clinical Science Research and Development Services Scientific Merit Review Board will meet from 8 a.m. to 5 p.m. as indicated below:

Subcommittee for | Date(s) | Location
Infectious Disease-B | November 7, 2007 | Hyatt Arlington.
Mental Hlth & Behav Sci-B | November 8, 2007 | Hyatt Arlington.
Hematology | November 9, 2007 | Hyatt Arlington.
Immunology-A | November 14, 2007 | Hyatt Arlington.
Nephrology | November 16, 2007 | Hyatt Arlington.
Mental Hlth & Behav Sci-A | November 19, 2007 | L'Enfant Plaza Hotel.
Epidemiology | November 20, 2007 | *VA Central Office.
Respiration | November 29, 2007 | St. Gregory Hotel.
Cellular & Molecular Medicine | November 29, 2007 | *VA Central Office.
Cardiovascular Studies | November 30, 2007 | St. Gregory Hotel.
Immunology-B | November 30, 2007 | L'Enfant Plaza Hotel.
Neurobiology-E | December 3, 2007 | Hyatt Arlington.
Surgery | December 3, 2007 | L'Enfant Plaza Hotel.
Infectious Diseases-A | December 4, 2007 | *VA Central Office.
Clinical Research Program | December 5, 2007 | L'Enfant Plaza Hotel.
Gastroenterology | December 6, 2007 | L'Enfant Plaza Hotel.
Oncology | December 6-7, 2007 | L'Enfant Plaza Hotel.
Neurobiology-A | December 7, 2007 | *VA Central Office.
Neurobiology-D | December 10, 2007 | *VA Central Office.
Endocrinology | December 10-11, 2007 | St. Gregory Hotel.
Neurobiology-C | December 14, 2007 | St. Gregory Hotel.
*Teleconference.
The addresses of the hotels and VA Central Office are: Hyatt Arlington, 1325 Wilson Boulevard, Arlington, VA; L'Enfant Plaza Hotel, 480 L'Enfant Plaza, SW., Washington, DC; St. Gregory Hotel, 2033 M Street, NW., Washington, DC; VA Central Office, 1722 Eye Street, NW., Washington, DC.

The purpose of the Merit Review Board is to provide advice on the scientific quality, budget, safety and mission relevance of investigator-initiated research proposals submitted for VA merit review consideration. Proposals submitted for review by the Board involve a wide range of medical specialties within the general areas of biomedical, behavioral and clinical science research.

The subcommittee meetings will be open to the public for approximately one hour at the start of each meeting to discuss the general status of the program. The remaining portion of each subcommittee meeting will be closed to the public for the review, discussion, and evaluation of initial and renewal projects.

The closed portion of each meeting involves discussion, examination, reference to staff and consultant critiques of research protocols. During this portion of each subcommittee meeting, discussion and recommendations will deal with qualifications of personnel conducting the studies, the disclosure of which would constitute a clearly unwarranted invasion of personal privacy, as well as research information, the premature disclosure of which could significantly frustrate implementation of proposed agency action regarding such research projects.

As provided by subsection 10(d) of Public Law 92-463, as amended, closing portions of these subcommittee meetings is in accordance with 5 U.S.C., 552b(c)(6) and (9)(B). Those who plan to attend or would like to obtain a copy of minutes of the subcommittee meetings and rosters of the members of the subcommittees should contact LeRoy G. Frey, Ph.D., Chief, Program Review (121F), Department of Veterans Affairs, 810 Vermont Avenue, NW., Washington, DC 20420 at (202) 254-0288.

Dated: October 18, 2007.
By Direction of the Secretary.
E. Philip Riggin,
Committee Management Officer.

[FR Doc. 07-5229 Filed 10-23-07; 8:45 am]

BILLING CODE 8320-01-M